FEDERAL ELECTION COMMISSION

Sunshine Act Meetings

TIME AND DATE: Thursday, July 25, 2024, 10:00 a.m.

PLACE: Hybrid meeting: 1050 First Street NE, Washington, DC (12th floor) and virtual.

Note: If you would like to virtually access the meeting, see the instructions below.

STATUS: This meeting will be open to the public. to access the meeting virtually, go to the Commission's website www.fec.gov and click on the banner to be taken to the meeting page.

MATTERS TO BE CONSIDERED:

Draft Advisory Opinion 2024-08: U.S. Representative Bob Good and Bob Good for Congress

REG 2013-06 (Administrative Fines Program Expansion)—Draft Notice of Proposed Rulemaking

REG 2024-04 (Form 3Z)—Draft Notice of Proposed Rulemaking

REG 2016-03 (Political Party Rules)—Draft Notice of Disposition

REG 2024-07 (Political Party Rules II)—Draft Notice of Availability

Management and Administrative Matters

CONTACT PERSON FOR MORE INFORMATION: Judith Ingram, Press Officer, Telephone: (202) 694-1220.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Laura E. Sinram,
Secretary and Clerk of the Commission.

[FR Doc. 2024-16182 Filed 7-18-24; 4:15 pm]

BILLING CODE 6715-01-P